DEPARTMENT OF TRANSPORTATION

Federal Aviation Administration

Commercial Space Transportation Advisory Committee—Public Teleconference

AGENCY: Federal Aviation Administration (FAA), DOT.

ACTION: Notice of Commercial Space Transportation Advisory Committee Teleconference.

SUMMARY: Pursuant to Section 10(a)(2) of the Federal Advisory Committee Act (Pub. L. 92-463, 5 U.S.C. App. 2), notice is hereby given of three teleconferences of the Systems Working Group of the Commercial Space Transportation Advisory Committee (COMSTAC). The teleconferences will take place on: Tuesday November 13, 2012, Tuesday December 18, 2012, and Tuesday January 15, 2013. All teleconferences will begin at 1:00 p.m. Eastern Standard Time and will last approximately one hour. Individuals who plan to participate should contact Paul Eckert, Designated Federal Officer (DFO), (the Contact Person listed below) by phone or email for the teleconference call-in number.

The purpose of these three teleconferences is to assist the FAA early in its development of regulations to protect occupants of commercial suborbital and orbital spacecraft. In a Federal Register notice dated July 30, 2012, the FAA announced its desire to engage with COMSTAC on a periodic basis, approximately once per month, on specific topics. The three teleconferences announced today are a continuation of the three announced in July.

As we noted in the July Federal Register notice, the FAA has not yet targeted a date for proposing regulations to protect the health and safety of crew and space flight participants. However, the FAA believes that the development of sound and appropriate regulations for human space flight can only be achieved with a deliberate, multi-year effort, and that early industry input into this regulatory effort before any formal proposal by the FAA is critical.

The topics for the first three teleconferences were: (1) What Level of Safety Should FAA Target? (2) What Should FAA Oversight Look Like? and (3) What Types of Requirements and Associated Guidance Material Should FAA Develop? The topics for three follow-on teleconferences are as follows:

(1) Key Terms and Definitions for Commercial Human Space Flight Safety Regulations. We would like to discuss key terms and definitions relevant to commercial human spaceflight regulations, and characterize their potential impacts to the various parties who have a vested interest in the industry. Terms that will be discussed include:

a. Abort.

b. Contingency.

c. Emergency.

d. Early Flight Return.

e. Landing Site.

(2) Aborts and Abort Systems. Abort systems have in the past been an element of many government human space flight systems for the purpose of enhancing occupant safety. We will discuss the following questions from a regulatory perspective:

a. Is an abort system a part of fault tolerance?

b. Does an abort only apply to the launch/ascent phase, or does it apply to other flight phases as well?

c. Should certain types of orbital or suborbital vehicle designs require a launch abort system?

d. What should the reliability requirements be for an abort system?

e. Is it acceptable to have a different level of care for occupants during an abort?

(3) Fault Tolerance, Margin, and Reliability. To allow for industry innovation, the commercial human space flight industry wishes to be free to the maximum extent possible to choose between fault tolerance, design margin, and reliability. We will explore the extent of this desire from a regulatory perspective with the following questions:

a. What would be an acceptable rationale at a functional level for a choice of fault tolerance, design margin, or high reliability to protect the safety of spacecraft occupants?

b. What is the minimum level of fault tolerance? Is it different for orbital vs. suborbital?

c. When is occupant risk high enough to necessitate additional fault tolerance?

d. What determines whether fault tolerance is handled at the function level or system level?

Interested members of the public may submit relevant written statements for the COMSTAC working group members to consider under the advisory process. Statements may concern the issues and agenda items mentioned above or additional issues that may be relevant for the U.S. commercial space transportation industry. Interested parties wishing to submit written statements should contact Paul Eckert, DFO, (the Contact Person listed below) in writing (mail or email) by November 6, 2012, for the November 13 teleconference, December 11, 2012, for the December 18 teleconference, and January 8, 2013, for the January 15 teleconference. This way the information can be made available to COMSTAC members for their review and consideration before each teleconference. Written statements should be supplied in the following formats: One hard copy with original signature or one electronic copy via email. The FAA may schedule up to 6 more teleconferences in the coming months to allow the U.S. commercial space transportation industry to share views with the FAA on a number of specific topics related to commercial human space flight safety.

An agenda will be posted on the FAA Web site at http://www.faa.gov/go/ast and http://www.faa.gov/about/office_org/headquarters_offices/ast/COMSTAC_working_group/

Individuals who plan to participate and need special assistance should inform the Contact Person listed below in advance of the meeting.

FOR FURTHER INFORMATION CONTACT: Paul Eckert (AST-5), Office of Commercial Space Transportation (AST), 800 Independence Avenue SW., Room 331, Washington, DC 20591, telephone (202) 267-8655; Email paul.eckert@faa.gov. Complete information regarding COMSTAC is available on the FAA Web site at: http://www.faa.gov/about/office_org/headquarters_offices/ast/advisory_committee/.

Issued in Washington, DC, October 16, 2012.
George C. Nield,
Associate Administrator for Commercial Space Transportation.

[FR Doc. 2012-26328 Filed 10-25-12; 8:45 am]

BILLING CODE 4910-13-P